DEPARTMENT OF COMMERCE

National Oceanic and Atmospheric Administration

RIN 0648-XC980

Caribbean Fishery Management Council; Public Meetings

AGENCY: National Marine Fisheries Service (NMFS), National Oceanic and Atmospheric Administration (NOAA), Commerce.

ACTION: Notice of public meetings.

SUMMARY: The Caribbean Fishery Management Council (Council) and its Administrative Committee will hold meetings.

DATES: The meetings will be held on December 11-12, 2013. The Council will convene on Wednesday, December 11, 2013, from 9 a.m. to 5 p.m., and the Administrative Committee will meet from 5:15 p.m. to 6 p.m. The Council will reconvene on Thursday, December 12, 2013, from 9 a.m. to 5 p.m.

ADDRESSES: The meetings will be held at the Wyndham Sugar Bay Resort and Spa, 6500 Estate Smith Bay, St. Thomas, USVI 00802.

FOR FURTHER INFORMATION CONTACT: Caribbean Fishery Management Council, 270 Muñoz Rivera Avenue, Suite 401, San Juan, Puerto Rico 00918, telephone: (787) 766-5926.

SUPPLEMENTARY INFORMATION: The Council will hold its 148th regular Council Meeting to discuss the items contained in the following agenda:

December 11, 2013, 9 a.m.-5 p.m.

• Call to Order

• Adoption of Agenda

• Consideration of 147th Council Meeting Verbatim Transcriptions

• Executive Director's Report

• “EFH of the Deep” Book Update Presentation—Dr. Máximo Cerame Vivas and Dr. Graciela García-Moliner

• Scientific and Statistic Committee (SSC) Report

—Analysis of Landings Relative to Annual Catch Limits

—Identification of Species for which ACL Overruns Results from Improved Data Collection

• Advisory Panel/Ad Hoc Committee Report on Timing Model—Dr. Kate Quigley

• Comprehensive Island Based FMP Update

—Discussion of Option Paper Comprehensive Amendment U.S. Caribbean FMPs: ACL Control Rule

—List of Actions and Alternatives to be considered by the CFMC

—Preparation: SSC/AP/Ad Hoc

• Recreational Fishing Regulations Review

• SEDAR Update: Compatible Regulations with PR DRNA

—Bajo de Sico, Abril La Sierra, Tourmaline and Others

PUBLIC COMMENT PERIOD (5-minutes presentations)

December 11, 2013, 5:15 p.m.-6 p.m.

• Council Administrative Matters

—Budget Update Fiscal Year 2013/14

—Closed Session to Discuss SSC/AP/OEAP Memberships

—Other Business

December 12, 2013, 9 a.m.-5 p.m.

• Overview of the Caribbean Large Marine Ecosystem Program

• Fish Spawning Aggregations—Dr. William Heyman/Dr. Michelle Schärer

• Trap Reduction and Lobster Project—Mr. Anthony Iarocci

• BVI Fishery Violation Incidents—Mr. Roy Pemberton

• Outreach and Education Meeting Report—Dr. Alida Ortíz

• Listing and Litigation Updates:

—Corals

—Nassau

—Queen Conch

• Enforcement Issues:

—Puerto Rico—DNER

—U.S. Virgin Islands—DPNR

—NOAA/NMFS

—U.S. Coast Guard

• Meetings Attended by Council Members and Staff

PUBLIC COMMENT PERIOD (5-minute presentations)

• Other Business

• Next Council Meeting

The established times for addressing items on the agenda may be adjusted as necessary to accommodate the timely completion of discussion relevant to the agenda items. To further accommodate discussion and completion of all items on the agenda, the meeting may be extended from, or completed prior to the date established in this notice.

The meetings are open to the public, and will be conducted in English. Fishers and other interested persons are invited to attend and participate with oral or written statements regarding agenda issues.

Although non-emergency issues not contained in this agenda may come before this group for discussion, those issues may not be subjects for formal action during these meetings. Actions will be restricted to those issues specifically identified in this notice, and any issues arising after publication of this notice that require emergency action under section 305(c) of the Magnuson-Stevens Fishery Conservation and Management Act, provided that the public has been notified of the Council's intent to take final action to address the emergency.

Special Accommodations

These meetings are physically accessible to people with disabilities. For more information or request for sign language interpretation and/other auxiliary aids, please contact Mr. Miguel A. Rolón, Executive Director, Caribbean Fishery Management Council, 270 Muñoz Rivera Avenue, Suite 401, San Juan, Puerto Rico, 00918, telephone (787) 766-5926, at least 5 days prior to the meeting date.

Dated: November 13, 2013.
Tracey L. Thompson,
Acting Deputy Director, Office of Sustainable Fisheries, National Marine Fisheries Service.

[FR Doc. 2013-27489 Filed 11-15-13; 8:45 am]

BILLING CODE 3510-22-P